DEPARTMENT OF TRANSPORTATION

Federal Aviation Administration

14 CFR Part 39

[Docket No. FAA-2010-0737; Directorate Identifier 2010-CE-037-AD]

RIN 2120-AA64

Airworthiness Directives; PIAGGIO AERO INDUSTRIES S.p.A. Model PIAGGIO P-180 Airplanes

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Some cases of failure of engine oil dipsticks, installed on Pratt & Whitney Canada (P&WC) PT6A66 and PT6A66B engines, were detected on P.180 aeroplanes; such failures, due to moisture penetration into the dipstick and subsequent corrosion, can cause incorrect reading of the engine oil low level on the Refuel/Ground Test Panel.

If left uncorrected, this situation could lead to in-flight engine failure(s). The proposed AD would require actions that are intended to address the unsafe condition described in the MCAI.

DATES: We must receive comments on this proposed AD by September 7, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Sarjapur Nagarajan, Aerospace Engineer, FAA, Small Airplane Directorate, 901 Locust, Room 301, Kansas City, Missouri 64106; telephone: (816) 329-4145; fax: (816) 329-4090.

SUPPLEMENTARY INFORMATION:

Comments Invited

We invite you to send any written relevant data, views, or arguments about this proposed AD. Send your comments to an address listed under the ADDRESSES section. Include “Docket No. FAA-2010-0737; Directorate Identifier 2010-CE-037-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The European Aviation Safety Agency (EASA), which is the Technical Agent for the Member States of the European Community, has issued AD No.: 2010-0123, dated June 22, 2010 (referred to after this as “the MCAI”), to correct an unsafe condition for the specified products. The MCAI states:

Some cases of failure of engine oil dipsticks, installed on Pratt & Whitney Canada (P&WC) PT6A66 and PT6A66B engines, were detected on P.180 aeroplanes; such failures, due to moisture penetration into the dipstick and subsequent corrosion, can cause incorrect reading of the engine oil low level on the Refuel/Ground Test Panel.

If left uncorrected, this situation could lead to in-flight engine failure(s).

This AD requires:

(1) Repetitive visual checks of the engine oil levels to prevent an undetected low level condition;

(2) repetitive inspections of the oil dipsticks to detect faulty units;

(3) replacement of faulty oil dipsticks or visual checks of the oil level at reduced not to exceed intervals, until replacement of faulty units.

The engine TC Holder is currently developing a modification that will address the unsafe condition identified in this AD; once such modification is developed, approved and available, further mandatory actions might be considered.

This Correction is issued to amend the AD number heading: it was PAD, it is AD.

Relevant Service Information

PIAGGIO AERO INDUSTRIES S.p.A. has issued Service Bulletin (Mandatory) N.: 80-0287, Rev. N. 1, dated March 24, 2010. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

We estimate that this proposed AD will affect 99 products of U.S. registry. We also estimate that it would take about 2.5 work-hours per product to comply with the basic requirements of this proposed AD. The average labor rate is $85 per work-hour.

Based on these figures, we estimate the cost of the proposed AD on U.S. operators to be $21,038, or $212.50 per product.

In addition, we estimate that any necessary follow-on actions to replace both dipsticks would take about 1 work-hour and require parts costing $9,000, for a cost of $9,085 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Piaggio Aero Industries S.p.A.: Docket No. FAA-2010-0737; Directorate Identifier 2010-CE-037-AD.

Comments Due Date

(a) We must receive comments by September 7, 2010.

Affected ADs

(b) None.

Applicability

(c) This AD applies to PIAGGIO AERO INDUSTRIES S.p.A. Model PIAGGIO P-180 airplanes, all serial numbers, certificated in any category.

Subject

(d) Air Transport Association of America (ATA) Code 79: Engine Oil.

Reason

(e) The mandatory continuing airworthiness information (MCAI) states:

Some cases of failure of engine oil dipsticks, installed on Pratt & Whitney Canada (P&WC) PT6A66 and PT6A66B engines, were detected on P.180 aeroplanes; such failures, due to moisture penetration into the dipstick and subsequent corrosion, can cause incorrect reading of the engine oil low level on the Refuel/Ground Test Panel.

If left uncorrected, this situation could lead to in-flight engine failure(s).

This AD requires:

(1) Repetitive visual checks of the engine oil levels to prevent an undetected low level condition;

(2) repetitive inspections of the oil dipsticks to detect faulty units;

(3) replacement of faulty oil dipsticks or visual checks of the oil level at reduced not to exceed intervals, until replacement of faulty units.

The engine TC Holder is currently developing a modification that will address the unsafe condition identified in this AD; once such modification is developed, approved and available, further mandatory actions might be considered.

This Correction is issued to amend the AD number heading: it was PAD, it is AD.

Actions and Compliance

(f) Unless already done, do the following actions:

(1) Within one month after the effective date of this AD or within 25 hours time-in-service (TIS) after the effective date of this AD, whichever occurs first, and repetitively thereafter at intervals not to exceed one month or 25 hours TIS, whichever occurs first, do the following in both engines:

(i) Visually check the oil level following the Accomplishment Instructions, Part A, of PIAGGIO AERO INDUSTRIES S.p.A. Service Bulletin (Mandatory) N.: 80-0287, Rev. N. 1, dated March 24, 2010; and

(ii) Do a functional check and inspection of the dipstick following the Accomplishment Instructions, Part B and C, of PIAGGIO AERO INDUSTRIES S.p.A. Service Bulletin (Mandatory) N.: 80-0287, Rev. N. 1, dated March 24, 2010.

(2) If, as determined by the inspection in paragraph (f)(1)(ii) of this AD, the installed dipsticks are compliant with P&WC Service Bulletin No. 14383, the repetitive inspections required in paragraph (f)(1) of this AD may be done at intervals not to exceed one month or 50 hours TIS, whichever occurs first.

(3) If a failed dipstick is found during any functional check required in paragraph (f)(1)(ii) of this AD, do one of the following;

(i) If a replacement dipstick is available, replace it before further flight; or

(ii) If a replacement dipstick is not available, the failed dipstick may be reinstalled, but, until replacement, the oil level check specified in paragraph (f)(1)(i) of this AD must be repetitively done in the affected engine within 5 hours TIS from the last check. The repetitive oil level check interval may be extended to 10 hours TIS based on oil consumption in accordance with the Accomplishment Instructions, Part B, of PIAGGIO AERO INDUSTRIES S.p.A. Service Bulletin (Mandatory) N.: 80-0287, Rev. N. 1, dated March 24, 2010.

(4) Replacement of the oil level dipstick does not terminate the repetitive check requirements of paragraph (f)(1) of this AD.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) AD No.: 2010-0123, dated June 22, 2010; and PIAGGIO AERO INDUSTRIES S.p.A. Service Bulletin (Mandatory) N.: 80-0287, Rev. N. 1, dated March 24, 2010, for related information.

Issued in Kansas City, Missouri, on July 16, 2010.
Kim Smith,
Manager, Small Airplane Directorate, Aircraft Certification Service.

[FR Doc. 2010-18061 Filed 7-22-10; 8:45 am]

BILLING CODE 4910-13-P